NATIONAL SCIENCE FOUNDATION

Advisory Committee for Biological Sciences Notice of Meeting

In accordance with the Federal Advisory Committee Act (Pub. L. 92-463, as amended), the National Science Foundation announces the following meeting:

Name: Advisory Committee for Biological Sciences (#1110).

Date and Time:

April 22, 2015; 8:30 a.m.-5:00 p.m.

April 23, 2015; 8:30 a.m.-3:00 p.m.

Place: Hilton Arlington, 950 North Stafford Street, Arlington, VA 22203.

If you plan to attend the joint session with the Advisory Committee for Cyber Infrastructure on April 23, the meeting will take place at the NSF. Please contact Jacy Woodruff at jwoodruf@nsf.gov or Michelle Evans at mvevans@nsf.gov to obtain a visitor badge. All visitors to the NSF will be required to show photo ID to obtain a badge.

The NSF is located at 4201 Wilson Blvd. Arlington, VA 22230.

Type of Meeting: Open.

Contact Person: Charles Liarakos, National Science Foundation, 4201 Wilson Boulevard, Room 605, Arlington, VA 22230; Tel No.: (703) 292-8400.

Purpose of Meeting: The Advisory Committee for the Directorate for Biological Sciences (BIO) provides advice, recommendations, and oversight concerning major program emphases, directions, and goals for the research-related activities of the divisions that make up BIO.

Agenda: Agenda items will include graduate education in biology, biological research at the nexus of food, energy and water (INFEWS), the development of Bio Data in a joint session with the Advisory Committee for Cyber Infrastructure, and other matters relevant to the Directorate for Biological Sciences.

Dated: March 9, 2015.
Suzanne Plimpton,
Acting, Committee Management Officer.

[FR Doc. 2015-05729 Filed 3-12-15; 8:45 am]

BILLING CODE 7555-01-P